DEPARTMENT OF HEALTH AND HUMAN SERVICES

Administration for Children and Families

[OMB #: 0970-0338]

Proposed Information Collection Activity; Caseload Reduction Documentation Process

AGENCY: Office of Family Assistance, Administration for Children and Families, U.S. Department of Health and Human Services.

ACTION: Request for public comments.

SUMMARY: The Administration for Children and Families (ACF) is requesting a 3-year extension of the form ACF-202: Caseload Reduction Report (Office of Management and Budget (OMB) #0970-0338, expiration October 31, 2026). There are substantive changes requested to the instructions and form.

DATES: Comments due October 14, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 407(b)(3) of the Social Security Act requires ACF to reduce a state's required work participation rate for a fiscal year (FY) by the state's caseload reduction credit for that FY. 42 U.S.C. 607(b)(3). The caseload reduction credit gives a state credit for reducing its caseload between a base year and a comparison year. 42 U.S.C. 607(b)(3)(A). States submit data for the calculation of their caseload reduction credit by completing form ACF-202. Section 301 of the Fiscal Responsibility Act of 2023 (FRA) recalibrates the caseload reduction credit by amending Section 407(b)(3) of the Social Security Act (42 U.S.C. 607(b)(3)) and changing the base-year caseload from FY 2005 to FY 2015. FRA, Public Law 118-15, § 301 (2023), 137 Stat. 34. ACF proposes to revise the Caseload Reduction Documentation Process as required by the FRA by striking “2005” and inserting “2015.” FRA, Public Law 118-15, § 301 (2023), 137 Stat. 34. There are additional minor changes to the instructions and form to update the reporting due date for FY 2026, update submission and general instructions, and change ”State” to lowercase, where applicable.

Respondents: State Temporary Assistance for Needy Families (TANF) agencies.

Annual Burden Estimates

The following table includes all information collections currently approved under this OMB number. This revision request only proposes changes to the content of the first row: Caseload Reduction Credit Documentation Process, Form ACF-202 §§ 261.41 & 261.44. The revisions do not change currently approved burden estimates.

Instrument | Total number of respondents | Total number of responses per respondent | Average burden hours per response | Annual burden hours
Caseload Reduction Credit Documentation Process, ACF-202 §§ 261.41 & 261.44 | 54 | 1 | 120 | 6,480
Reasonable Cause/Corrective Compliance Documentation Process §§ 262.4, 262.6, & 262.7; § 261.51 | 54 | 2 | 240 | 25,920
TANF Data Report Part 265 | 54 | 4 | 2,100 | 453,600
Separate State Program—Maintenance of Effort Data Report—Part 265 | 29 | 4 | 714 | 82,824
TANF Sampling and Statistical Methods Manual § 265.5 | 30 | 4 | 48 | 5,760
Preparation and Submission of Data Verification Procedures §§ 261.60-261.63 | 54 | 1 | 640 | 34,560
Estimated Total Annual Burden Hours |  |  |  | 609,144

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 607(b)(3); FRA Pub. L. 118-5, 301, 137 Stat. 34.

Mary C. Jones,
ACF/OPRE Certifying Officer.

[FR Doc. 2025-15471 Filed 8-13-25; 8:45 am]

BILLING CODE 4184-36-P